POSTAL SERVICE

39 CFR Part 927

Regulations Dealing With Penalties or Fines, Deductions, and Damages Related to Transportation of Mail

AGENCY: Postal Service.

ACTION: Final rule.

SUMMARY: This rule revises postal regulations dealing with civil penalties, fines, deductions and damages assessed in the administration of the mail transportation statutes. The rule provides detailed procedures for the imposition of penalties and other assessments and conforms the regulations to the current organization of the Postal Service.

EFFECTIVE DATE: August 2, 2002.

FOR FURTHER INFORMATION CONTACT: Frank Panico, Manager, International Transportation and Network Support, International Network Operations at (202) 268-8058.

SUPPLEMENTARY INFORMATION: This change is being made to reflect:

1. United States Postal Service's organizational realignment.

2. Technological enhancements which have affected the methodology of recording and adjudicating air carrier irregularities.

This has contributed to the elimination of the mid level review and adjudication process. These changes are detailed in section 927.3. This new process is expected to improve service performance and expedite the irregularity process for international and military mail.

List of Subjects in 39 CFR Part 927

Administrative practice and procedure, Air carriers, Government contracts, Maritime carriers, Penalties.

For the reasons set forth in the preamble, 39 CFR part 927 is revised to read as follows:

PART 927—RULES OF PROCEDURE RELATING TO FINES, DEDUCTIONS, AND DAMAGES

Sec
927.1 Noncontractual carriage of international mail by vessel.
927.2 Noncontractual air service for international and military mail.
927.3 Other remedies.

Authority: 39 U.S.C. 401, 2601 Chap. 56 Section 5604; 49 U.S.C. 1357, 1471.

§ 927.1 Noncontractual carriage of international mail by vessel.

(a) Report of infraction. Where evidence is found or reported that a carrier of mail by vessel which has transported mail pursuant to the provisions of Chapter 4, USPS Purchasing Manual, has unreasonably or unnecessarily delayed the mails, or committed other delinquencies in the transportation of mail, has failed to carry the mail in a safe and secure manner, or has caused loss or damage to the mail, the facts will be reported to International Network Operations, Headquarters.

(b) Review, investigation, recommendation. International Network Operations will investigate the matter, record findings of fact, make a recommendation concerning the need for imposition of fine or penalty with reasons for the recommendation, and will advise the carrier of the recommendation.

(c) Penalty action. International Network Operations, upon review of the record, may impose a fine or penalty against a carrier for any irregularity properly documented, whether or not penalty action has been recommended. A tentative decision of International Network Operations to take penalty action will be set forth in detail the facts and reasons upon which the determination is based. International Network Operations will send the tentative decision, including notice of the irregularities found and the amount of fine or penalty proposed, to the carrier. The carrier may present a written defense to the proposed action within 21 days after receipt of the tentative decision. International Network Operations will advise the carrier of the final decision.

(d) Appeal. If the final decision includes a penalty International Network Operations will advise the carrier that it may, within 30 days, appeal the action in writing to the Vice President, Network Operations Management, U.S. Postal Service Headquarters and that its written appeal should include all facts and arguments upon which the carrier relies in support of the appeal. If an appeal is not received, International Network Operations will close the record. When an appeal is taken, the Vice President, Network Operations Management will review the complete record the decide the appeal. He will advise the carrier of the decision in writing and will take actions consistent with that decision. The Vice President, Network Operations Management, may sustain, rescind, or compromise a fine or penalty. The decision of the Vice President, Network Operations Management on appeal shall be the final decision of the Postal Service. The Postal Service may, in its discretion, deduct from payment otherwise due the carrier an amount necessary to satisfy the penalty action taken under this section.

(e) Details of administration. For further administrative details, see USPS Purchasing Manual, chapter 4.

§ 927.2 Noncontractual air service for international and military mail.

(a) Report of infraction. Each mail handling irregularity will be reported in the prescribed format by the cognizant postal official or designated representative. As soon as possible the reporting authority will ask the local representative of the air carrier to provide an explanation of the irregularity. A summary of the explanation, if any, will be entered in the record. A copy of the report will be provided to the local station manager of the air carrier concerned at the close of each tour or not less frequently than each 24 hours.

(b) Carrier conferences. At least one a month, postal officials will schedule meetings with the local representatives of the affected air carriers to discuss the reported irregularities. The carrier's representative will be advised of any irregularity for which the reporting authority will recommend penalty action. The carrier's representative will be offered the opportunity to comment on any irregularity, and any comments will be attached and/or be made part of the record. The reports on which penalty action is recommended will then be processed by International Network Operations, Postal Headquarters.

(c) Review, investigation, penalty action. International Network Operations will review the matter and advise the carrier of the recommendations. The carrier has 21 days from receipt of notice to dispute the recommended penalties. In those instances which the carrier has disputed the facts alleged by the reporting authority, International Network Operations will investigate the matter to resolve the differences. International Network Operations, upon review of the record, may impose a fine or penalty against an air carrier for any irregularity properly documented, whether or not penalty action has been recommended. International Network Operations will send the decision, including notice of the irregularities alleged and the amount of fine or penalty proposed to the carrier. The Postal Service may, in its discretion, deduct from payment otherwise due the air carrier an amount necessary to satisfy the penalty action taken under this section.

(d) Appeal. If the final decision includes a penalty, International Network Operations will advise the carrier that it may, within 30 days, appeal the action in writing to the Vice President, Network Operations Management, Postal Headquarters, and that its written appeal should include all facts and arguments upon which the carrier relies in support of the appeal. If an appeal is not received, International Network Operations will close the file. When an appeal is taken, the Vice President, Network Operations Management, will review the complete record and decide the appeals. He will advise the carrier of the decision in writing and will take action consistent with that decision. The Vice President, Network Operations Management, may sustain, rescind, or compromise a fine or penalty. The decision of the Vice President, Network Operations Management, on appeal shall be the final decision of the Postal Service. The Postal Service, may, in its discretion, deduct from pay otherwise due the air carrier an amount necessary to satisfy the penalty action taken under this section.

(e) Details of administration. For further administrative details, forms, and other implementing materials adapted to the respective modes of transportation, see International Mail Operations, Handbook T-5, chapter 5.

§ 927.3 Other remedies.

The procedures and other requirements of this part apply only where the Postal Service proposes to assess penalties, fines, deductions, or damages. This part does not limit other remedies available to the Postal Service, including such remedies as summary action to withhold tender of mail to protect the public interest in the event of major irregularities such as theft, deliberate loss, damage, abandonment of the mail or service failures by the air carrier.

Stanley F. Mires,
Chief Counsel, Legislative.

[FR Doc. 02-19546 Filed 8-1-02; 8:45 am]

BILLING CODE 7710-12-P